DEPARTMENT OF ENERGY

Federal Energy Regulatory Commission

[Docket No. IC20-06-000]

Commission Information Collection Activities (FERC-725A(1B)); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection FERC-725A(1B) (Certification of Electric Reliability Organization; Procedures for Electric Reliability Standards) and submitting the information collection to the Office of Management and Budget (OMB) for review. Any interested person may file comments directly with OMB and should address a copy of those comments to the Commission as explained below.

DATES: Comments on the collection of information are due June 12, 2020.

ADDRESSES: Send written comments on FERC-725A(1B) to OMB through www.reginfo.gov/public/do/PRAMain. Attention: Federal Energy Regulatory Commission Desk Officer. Please identify the OMB control number (1902-0292) in the subject line. Your comments should be sent within 30 days of publication of this notice in the Federal Register. Please submit copies of your comments to the Commission (identified by Docket No. IC20-06-000) by either of the following methods:

• eFiling at Commission's Website: http://www.ferc.gov/docs-filing/efiling.asp.

• Mail/Hand Delivery/Courier: Federal Energy Regulatory Commission, Secretary of the Commission, at Health and Human Services, 12225 Wilkins Avenue, Rockville, Maryland 20852.

Instructions

OMB submissions: Must be formatted and filed in accordance with submission guidelines at www.reginfo.gov/public/do/PRAMain. Using the search function under the Currently Under Review field select Federal Energy Regulatory Commission; click “submit” and select omment to the right of the subject collection.

FERC submissions: Must be formatted and filed in accordance with submission guidelines at: http://www.ferc.gov/help/submission-guide.asp. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov and telephone at (202) 502-8663.

SUPPLEMENTARY INFORMATION: Title: FERC-725A(1B), (Mandatory Reliability Standards for the Bulk Power System).

OMB Control No.: 1902-0292.

Type of Request: Three-year extension of the FERC-725A(1B) information collection requirements with no changes to the current reporting and recordkeeping requirements.

Abstract: The FERC-725A(1B) Under section 215 of the Federal Power Act (FPA), the Commission proposes to approve Reliability Standards TOP-010-1 (Real-time Reliability Monitoring and Analysis Capabilities) submitted by North American Electric Corporation (NERC). In this order, the Reliability Standards build on monitoring, real-time assessments and support effective situational awareness. The Reliability Standards accomplish this by requiring applicable entities to: (1) Provide notification to operators of real-time monitoring alarm failures; (2) provide operators with indications of the quality of information being provided by their monitoring and analysis capabilities; and (3) address deficiencies in the quality of information being provided by their monitoring and analysis capabilities. FERC-725A(1B) address situational awareness objectives by providing for operator awareness when key alarming tools are not performing as intended. These collections will improve real-time situational awareness capabilities and enhance reliable operations by requiring reliability coordinators, transmission operators, and balancing authorities to provide operators with an improved awareness of system conditions analysis capabilities, including alarm availability, so that operators may take appropriate steps to ensure reliability. These functions include planning, operations, data sharing, monitoring, and analysis.

Type of Respondent: Balancing Authority (BA),Transmission Operations (TOP) and Reliability Coordinators (RC).

Estimate of Annual Burden: ¹ The Commission estimates the total annual burden and cost ² for this information collection in the table below.

¹ Burden is the total time, effort, or financial resources expended by persons to generate, maintain, retain, or disclose or provide information to or for a Federal agency. For further explanation of what is included in the information collection burden, refer to Title 5 Code of Federal Regulations 1320.3.

² Costs (for wages and benefits) are based on wage figures from the Bureau of Labor Statistics (BLS) for May 2019 (at https://www.bls.gov/oes/current/naics2_22.htm) and benefits information (at https://www.bls.gov/news.release/ecec.nr0.htm).

FERC-725A(1B), Changes Due to TOP-010-1 in Docket No. IC20-6-000 3
Entity | Requirements & period | Number of respondents 4 | Annual number of responses per respondent | Total number of responses | Average burden & cost per response 5 | Total annual burden hours & total annual cost | Cost per respondent ($)
|  | (1) | (2) | (1) * (2) = (3) | (4) | (3) * (4) = (5) | (5) ÷ (1)
BA ⁶ | Annual reporting | 98 | 1 | 98 | 42 hrs.; $2,696.40 | 4,116 hrs.; $264,247.20 | $2,696.40
TOP ⁷ | Annual reporting | 169 | 1 | 169 | 40 hrs.; $2,568.00 | 6,760 hrs.; $433,992.00 | 2,568.00
BA/TOP | Annual Record Retention | 267 | 1 | 267 | 2 hrs.; $75.38 | 534 hrs.; $20,126.46 | $75.38
Total Burden Hours Per Year |  |  |  |  |  | 11,410 hrs.; $718,365.66 per year, (starting in year 2) |

Averaging One-Time Burden and Responses for FERC-725A(1B), TOP-010-1 in Docket No. IC20-6-000

—For purposes of this OMB clearance, the annual burden and record retention of 11,410 hrs.

³ Our estimates are based on the NERC Compliance Registry Summary of Entities and Functions as of April 24, 2020, which indicates there are registered as BA and TOP.

⁴ The number of respondents is the number of entities in which a change in burden from the current standards to the proposed exists, not the total number of entities from the current or proposed standards that are applicable.

⁵ The estimated hourly costs (salary plus benefits) are based on Bureau of Labor Statistics (BLS) information, as of May 2019 (at http://www.bls.gov/oes/current/naics2_22.htm, with updated benefits information for March 2019 at http://www.bls.gov/news.release/ecec.nr0.htm), for an electrical engineer (code 17-2071, $68.17/hour), and for information and record clerks record keeper (code 43-4199, $40.84/hour). The hourly figure for engineers is used for reporting; the hourly figure for information and record clerks is used for document retention.

⁶ Balancing Authority (BA). The following Requirements and associated measures apply to balancing authorities: Requirement R1: A revised data specification and writing the required operating process/operating procedure; and Requirement R2: Quality monitoring logs and the data errors and corrective action logs.

⁷ Transmission Operations (TOP). The following Requirements and associated measures apply to transmission operators: Requirement R1: A revised data specification and writing the required operating process/operating procedure; and Requirement R3: Alarm process monitor performance logs to maintain performance logs and corrective action plans.

Summary and Response to Public Comment

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 7, 2020.
Kimberly D. Bose,
Secretary.

[FR Doc. 2020-10256 Filed 5-12-20; 8:45 am]

BILLING CODE 6717-01-P